NEIGHBORHOOD REINVESTMENT CORPORATION

Audit Committee Meeting: Sunshine Act

TIME AND DATE: 2:30 p.m., Monday, January 23, 2017.

PLACE: NeighborWorks America—Gramlich Boardroom, 999 North Capitol Street NE., Washington DC 20002.

STATUS: Open (with the exception of Executive Session).

CONTACT PERSON: Jeffrey Bryson, General Counsel/Secretary, (202) 760-4101; jbryson@nw.org.

AGENDA:

I. CALL TO ORDER

II. Executive Session with Chief Audit Executive

III. Internal Audit Reports with Management's Response

IV. FY 2017 Internal Audit Plan—Proposed Change

V. Internal Audit Status Reports

VI. Audit of Retirement Plan Year Ending 2015 and 2014

VII. Adjournment

The General Counsel of the Corporation has certified that in his opinion, one or more of the exemptions set forth in 5 U.S.C. 552 (b)(4) permit closure of the following portions of this meeting:

• Executive Session with the External Auditor

Jeffrey T. Bryson,
EVP & General Counsel/Corporate Secretary.

[FR Doc. 2017-01157 Filed 1-13-17; 11:15 am]

BILLING CODE 7570-02-P